DEPARTMENT OF JUSTICE

Office of Justice Programs

[OJP (OJJDP) Docket No. 1594]

Meeting (Webinar) of the Federal Advisory Committee on Juvenile Justice

AGENCY: Office of Juvenile Justice and Delinquency Prevention, Office of Justice Programs, U.S. Department of Justice.

ACTION: Notice of Webinar Meeting.

SUMMARY: The Office of Juvenile Justice and Delinquency Prevention (OJJDP) announces a meeting of the Federal Advisory Committee on Juvenile Justice (FACJJ).

Dates and Locations: The meeting will take place online, as a webinar, on Friday, August 10, 2012, from 3 to 7 p.m. ET.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App. 2), will meet to carry out its advisory functions under Section 223(f)(2)(C-E) of the Juvenile Justice and Delinquency Prevention Act of 2002. The FACJJ is composed of representatives from the states and territories. FACJJ member duties include: reviewing Federal policies regarding juvenile justice and delinquency prevention; advising the OJJDP Administrator with respect to particular functions and aspects of OJJDP; and advising the President and Congress with regard to State perspectives on the operation of OJJDP and Federal legislation pertaining to juvenile justice and delinquency prevention. More information may be found at www.facjj.org.

Meeting Agenda: The agenda will include: (a) Welcome and introductions; (b) remarks from the Administrator; (c) presentation by and discussion with staff of the National Juvenile Justice Evaluation Center; (d) subcommittee reports and discussions; (e) other business; and (f) adjournment.

Members of the FACJJ and of the public who wish to attend must pre-register online by linking to the webinar registration portal through www.facjj.org no later than Wednesday, August 8, 2012. Upon registration, information will be sent to you at the email you provide to enable you to connect to the webinar. Should problems arise with webinar registration, call Michelle Duhart-Tonge at 703-789-4712. [Note: this is not a toll-free telephone number.] Members of the public will be able to listen to and view the webinar as observers but will not be able to actively participate.

Written Comments: Interested parties may submit written comments in advance to Robin Delany-Shabazz, Designated Federal Official, by email to Robin.Delany-Shabazz@usdoj.gov no later than Monday, August 6, 2012. Alternatively, fax your comments to 202-307-2819 and call Joyce Mosso Stokes at 202-305-4445 to ensure that they are received. [Note: These are not toll-free numbers.]

Melodee Hanes,
Acting Administrator, Office of Juvenile Justice and Delinquency Prevention.

[FR Doc. 2012-16267 Filed 7-2-12; 8:45 am]

BILLING CODE 4410-18-P